DEPARTMENT OF ENERGY

Federal Energy Regulatory Commission

[Docket No. RP99-496-007]

Southern Natural Gas Company; Notice of Tariff Filing

July 19, 2000.

Take notice that on July 14, 2000, Southern Natural Gas Company (Southern) tendered for filing as part of its FERC Gas Tariff, Seventh Revised Volume No. 1, the following tariff sheet with the proposed effective date of August 1, 2000:

Sub Seventy-Third Revised Sheet No. 15

Southern states that the purpose of this filing is to include the firm transportation rates for the South Georgia Incremental Service, which were filed in Southern's March 10, 2000, Settlement Filing in Docket No. RP99-496, et al., and approved by the Commission's Order (Order) dated May 31, 2000 in that docket. On June 30, 2000, Southern filed tariff sheets to implement the settlement provisions approved by the Order. The rates for the South Georgia Incremental Service were inadvertently omitted in the June 30th filing. Southern is filing herewith rates for the South Georgia Incremental Service.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18615 Filed 7-21-00; 8:45 am]

BILLING CODE 6717-01-M